NUCLEAR REGULATORY COMMISSION

[NRC-2018-0124]

Biweekly Notice; Applications and Amendments to Facility Operating Licenses and Combined Licenses Involving No Significant Hazards Considerations

AGENCY: Nuclear Regulatory Commission.

ACTION: Biweekly notice.

SUMMARY: Pursuant to Section 189a.(2) of the Atomic Energy Act of 1954, as amended (the Act), the U.S. Nuclear Regulatory Commission (NRC) is publishing this regular biweekly notice. The Act requires the Commission to publish notice of any amendments issued, or proposed to be issued, and grants the Commission the authority to issue and make immediately effective any amendment to an operating license or combined license, as applicable, upon a determination by the Commission that such amendment involves no significant hazards consideration, notwithstanding the pendency before the Commission of a request for a hearing from any person.

This biweekly notice includes all notices of amendments issued, or proposed to be issued, from June 5, 2018, to June 18, 2018. The last biweekly notice was published on June 19, 2018.

DATES: Comments must be filed by August 2, 2018. A request for a hearing must be filed by September 3, 2018.

ADDRESSES: You may submit comments by any of the following methods (unless this document describes a different method for submitting comments on a specific subject):

• Federal Rulemaking website: Go to http://www.regulations.gov and search for Docket ID NRC-2018-0124. Address questions about NRC dockets to Jennifer Borges; telephone: 301-287-9127; email: Jennifer.Borges@nrc.gov. For technical questions, contact the individual listed in the FOR FURTHER INFORMATION CONTACT section of this document.

• Mail comments to: May Ma, Office of Administration, Mail Stop: TWFN-7-A60M, U.S. Nuclear Regulatory Commission, Washington, DC 20555-0001.

For additional direction on obtaining information and submitting comments, see “Obtaining Information and Submitting Comments” in the SUPPLEMENTARY INFORMATION section of this document.

FOR FURTHER INFORMATION CONTACT: Paula Blechman, Office of Nuclear Reactor Regulation, U.S. Nuclear Regulatory Commission, Washington, DC 20555-0001; telephone: 301-415-2242, email: Paula.Blechman@nrc.gov.

SUPPLEMENTARY INFORMATION:

I. Obtaining Information and Submitting Comments

A. Obtaining Information

Please refer to Docket ID NRC-2018-0124, facility name, unit number(s), plant docket number, application date, and subject when contacting the NRC about the availability of information for this action. You may obtain publicly-available information related to this action by any of the following methods:

• Federal Rulemaking website: Go to http://www.regulations.gov and search for Docket ID NRC-2018-0124.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document.

• NRC's PDR: You may examine and purchase copies of public documents at the NRC's PDR, Room O1-F21, One White Flint North, 11555 Rockville Pike, Rockville, Maryland 20852.

B. Submitting Comments

Please include Docket ID NRC-2018-0124, facility name, unit number(s), plant docket number, application date, and subject in your comment submission.

The NRC cautions you not to include identifying or contact information that you do not want to be publicly disclosed in your comment submission. The NRC will post all comment submissions at http://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Notice of Consideration of Issuance of Amendments to Facility Operating Licenses and Combined Licenses and Proposed No Significant Hazards Consideration Determination

The Commission has made a proposed determination that the following amendment requests involve no significant hazards consideration. Under the Commission's regulations in § 50.92 of title 10 of the Code of Federal Regulations (10 CFR), this means that operation of the facility in accordance with the proposed amendment would not (1) involve a significant increase in the probability or consequences of an accident previously evaluated, or (2) create the possibility of a new or different kind of accident from any accident previously evaluated; or (3) involve a significant reduction in a margin of safety. The basis for this proposed determination for each amendment request is shown below.

The Commission is seeking public comments on this proposed determination. Any comments received within 30 days after the date of publication of this notice will be considered in making any final determination.

Normally, the Commission will not issue the amendment until the expiration of 60 days after the date of publication of this notice. The Commission may issue the license amendment before expiration of the 60-day period provided that its final determination is that the amendment involves no significant hazards consideration. In addition, the Commission may issue the amendment prior to the expiration of the 30-day comment period if circumstances change during the 30-day comment period such that failure to act in a timely way would result, for example in derating or shutdown of the facility. If the Commission takes action prior to the expiration of either the comment period or the notice period, it will publish in the Federal Register a notice of issuance. If the Commission makes a final no significant hazards consideration determination, any hearing will take place after issuance. The Commission expects that the need to take this action will occur very infrequently.

A. Opportunity To Request a Hearing and Petition for Leave To Intervene

Within 60 days after the date of publication of this notice, any persons (petitioner) whose interest may be affected by this action may file a request for a hearing and petition for leave to intervene (petition) with respect to the action. Petitions shall be filed in accordance with the Commission's “Agency Rules of Practice and Procedure” in 10 CFR part 2. Interested persons should consult a current copy of 10 CFR 2.309. The NRC's regulations are accessible electronically from the NRC Library on the NRC's website at http://www.nrc.gov/reading-rm/doc-collections/cfr/. Alternatively, a copy of the regulations is available at the NRC's Public Document Room, located at One White Flint North, Room O1-F21, 11555 Rockville Pike (first floor), Rockville, Maryland 20852. If a petition is filed, the Commission or a presiding officer will rule on the petition and, if appropriate, a notice of a hearing will be issued.

As required by 10 CFR 2.309(d) the petition should specifically explain the reasons why intervention should be permitted with particular reference to the following general requirements for standing: (1) The name, address, and telephone number of the petitioner; (2) the nature of the petitioner's right under the Act to be made a party to the proceeding; (3) the nature and extent of the petitioner's property, financial, or other interest in the proceeding; and (4) the possible effect of any decision or order which may be entered in the proceeding on the petitioner's interest.

In accordance with 10 CFR 2.309(f), the petition must also set forth the specific contentions which the petitioner seeks to have litigated in the proceeding. Each contention must consist of a specific statement of the issue of law or fact to be raised or controverted. In addition, the petitioner must provide a brief explanation of the bases for the contention and a concise statement of the alleged facts or expert opinion which support the contention and on which the petitioner intends to rely in proving the contention at the hearing. The petitioner must also provide references to the specific sources and documents on which the petitioner intends to rely to support its position on the issue. The petition must include sufficient information to show that a genuine dispute exists with the applicant or licensee on a material issue of law or fact. Contentions must be limited to matters within the scope of the proceeding. The contention must be one which, if proven, would entitle the petitioner to relief. A petitioner who fails to satisfy the requirements at 10 CFR 2.309(f) with respect to at least one contention will not be permitted to participate as a party.

Those permitted to intervene become parties to the proceeding, subject to any limitations in the order granting leave to intervene. Parties have the opportunity to participate fully in the conduct of the hearing with respect to resolution of that party's admitted contentions, including the opportunity to present evidence, consistent with the NRC's regulations, policies, and procedures.

Petitions must be filed no later than 60 days from the date of publication of this notice. Petitions and motions for leave to file new or amended contentions that are filed after the deadline will not be entertained absent a determination by the presiding officer that the filing demonstrates good cause by satisfying the three factors in 10 CFR 2.309(c)(1)(i) through (iii). The petition must be filed in accordance with the filing instructions in the “Electronic Submissions (E-Filing)” section of this document.

If a hearing is requested, and the Commission has not made a final determination on the issue of no significant hazards consideration, the Commission will make a final determination on the issue of no significant hazards consideration. The final determination will serve to establish when the hearing is held. If the final determination is that the amendment request involves no significant hazards consideration, the Commission may issue the amendment and make it immediately effective, notwithstanding the request for a hearing. Any hearing would take place after issuance of the amendment. If the final determination is that the amendment request involves a significant hazards consideration, then any hearing held would take place before the issuance of the amendment unless the Commission finds an imminent danger to the health or safety of the public, in which case it will issue an appropriate order or rule under 10 CFR part 2.

A State, local governmental body, Federally-recognized Indian Tribe, or agency thereof, may submit a petition to the Commission to participate as a party under 10 CFR 2.309(h)(1). The petition should state the nature and extent of the petitioner's interest in the proceeding. The petition should be submitted to the Commission no later than 60 days from the date of publication of this notice. The petition must be filed in accordance with the filing instructions in the “Electronic Submissions (E-Filing)” section of this document, and should meet the requirements for petitions set forth in this section, except that under 10 CFR 2.309(h)(2) a State, local governmental body, or Federally-recognized Indian Tribe, or agency thereof does not need to address the standing requirements in 10 CFR 2.309(d) if the facility is located within its boundaries. Alternatively, a State, local governmental body, Federally-recognized Indian Tribe, or agency thereof may participate as a non-party under 10 CFR 2.315(c).

If a hearing is granted, any person who is not a party to the proceeding and is not affiliated with or represented by a party may, at the discretion of the presiding officer, be permitted to make a limited appearance pursuant to the provisions of 10 CFR 2.315(a). A person making a limited appearance may make an oral or written statement of his or her position on the issues but may not otherwise participate in the proceeding. A limited appearance may be made at any session of the hearing or at any prehearing conference, subject to the limits and conditions as may be imposed by the presiding officer. Details regarding the opportunity to make a limited appearance will be provided by the presiding officer if such sessions are scheduled.

B. Electronic Submissions (E-Filing)

All documents filed in NRC adjudicatory proceedings, including a request for hearing and petition for leave to intervene (petition), any motion or other document filed in the proceeding prior to the submission of a request for hearing or petition to intervene, and documents filed by interested governmental entities that request to participate under 10 CFR 2.315(c), must be filed in accordance with the NRC's E-Filing rule (72 FR 49139; August 28, 2007, as amended at 77 FR 46562; August 3, 2012). The E-Filing process requires participants to submit and serve all adjudicatory documents over the internet, or in some cases to mail copies on electronic storage media. Detailed guidance on making electronic submissions may be found in the Guidance for Electronic Submissions to the NRC and on the NRC website at http://www.nrc.gov/site-help/e-submittals.html. Participants may not submit paper copies of their filings unless they seek an exemption in accordance with the procedures described below.

To comply with the procedural requirements of E-Filing, at least 10 days prior to the filing deadline, the participant should contact the Office of the Secretary by email at hearing.docket@nrc.gov, or by telephone at 301-415-1677, to (1) request a digital identification (ID) certificate, which allows the participant (or its counsel or representative) to digitally sign submissions and access the E-Filing system for any proceeding in which it is participating; and (2) advise the Secretary that the participant will be submitting a petition or other adjudicatory document (even in instances in which the participant, or its counsel or representative, already holds an NRC-issued digital ID certificate). Based upon this information, the Secretary will establish an electronic docket for the hearing in this proceeding if the Secretary has not already established an electronic docket.

Information about applying for a digital ID certificate is available on the NRC's public website at http://www.nrc.gov/site-help/e-submittals/getting-started.html. Once a participant has obtained a digital ID certificate and a docket has been created, the participant can then submit adjudicatory documents. Submissions must be in Portable Document Format (PDF). Additional guidance on PDF submissions is available on the NRC's public website at http://www.nrc.gov/site-help/electronic-sub-ref-mat.html. A filing is considered complete at the time the document is submitted through the NRC's E-Filing system. To be timely, an electronic filing must be submitted to the E-Filing system no later than 11:59 p.m. Eastern Time on the due date. Upon receipt of a transmission, the E-Filing system time-stamps the document and sends the submitter an email notice confirming receipt of the document. The E-Filing system also distributes an email notice that provides access to the document to the NRC's Office of the General Counsel and any others who have advised the Office of the Secretary that they wish to participate in the proceeding, so that the filer need not serve the document on those participants separately. Therefore, applicants and other participants (or their counsel or representative) must apply for and receive a digital ID certificate before adjudicatory documents are filed so that they can obtain access to the documents via the E-Filing system.

A person filing electronically using the NRC's adjudicatory E-Filing system may seek assistance by contacting the NRC's Electronic Filing Help Desk through the “Contact Us” link located on the NRC's public website at http://www.nrc.gov/site-help/e-submittals.html, by email to MSHD.Resource@nrc.gov, or by a toll-free call at 1-866-672-7640. The NRC Electronic Filing Help Desk is available between 9 a.m. and 6 p.m., Eastern Time, Monday through Friday, excluding government holidays.

Participants who believe that they have a good cause for not submitting documents electronically must file an exemption request, in accordance with 10 CFR 2.302(g), with their initial paper filing stating why there is good cause for not filing electronically and requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, 11555 Rockville Pike, Rockville, Maryland 20852, Attention: Rulemaking and Adjudications Staff. Participants filing adjudicatory documents in this manner are responsible for serving the document on all other participants. Filing is considered complete by first-class mail as of the time of deposit in the mail, or by courier, express mail, or expedited delivery service upon depositing the document with the provider of the service. A presiding officer, having granted an exemption request from using E-Filing, may require a participant or party to use E-Filing if the presiding officer subsequently determines that the reason for granting the exemption from use of E-Filing no longer exists.

Documents submitted in adjudicatory proceedings will appear in the NRC's electronic hearing docket which is available to the public at https://adams.nrc.gov/ehd, unless excluded pursuant to an order of the Commission or the presiding officer. If you do not have an NRC-issued digital ID certificate as described above, click cancel when the link requests certificates and you will be automatically directed to the NRC's electronic hearing dockets where you will be able to access any publicly available documents in a particular hearing docket. Participants are requested not to include personal privacy information, such as social security numbers, home addresses, or personal phone numbers in their filings, unless an NRC regulation or other law requires submission of such information. For example, in some instances, individuals provide home addresses in order to demonstrate proximity to a facility or site. With respect to copyrighted works, except for limited excerpts that serve the purpose of the adjudicatory filings and would constitute a Fair Use application, participants are requested not to include copyrighted materials in their submission.

For further details with respect to these license amendment applications, see the application for amendment which is available for public inspection in ADAMS and at the NRC's PDR. For additional direction on accessing information related to this document, see the “Obtaining Information and Submitting Comments” section of this document.

Duke Energy Progress, LLC, Docket Nos. 50-325 and 50-324, Brunswick Steam Electric Plant, Unit Nos. 1 and 2, Brunswick County, North Carolina

Date of amendment request: April 25, 2018. A publicly-available version is in ADAMS under Accession No. ML18121A366.

Description of amendment request: The amendments would revise an existing Note for Technical Specification (TS) 3.8.3, “Diesel Fuel Oil,” to allow, on a one-time basis, the main fuel oil storage tank to be inoperable for up to 14 days for the purpose of performing required inspection, cleaning, and any necessary repair activities.

Basis for proposed no significant hazards consideration determination: As required by 10 CFR 50.91(a), the licensee has provided its analysis of the issue of no significant hazards consideration, which is presented below:

1. Does the proposed change involve a significant increase in the probability or consequences of an accident previously evaluated?

Response: No.

The proposed change does not alter the assumption of the accident analyses or the Technical Specification Bases. The Diesel Fuel Oil system supplies each Emergency Diesel Generator (EDG) with fuel oil capacity sufficient to operate that EDG for a period of approximately seven days while the EDG is operating at rated load. The one-time allowance to permit internal inspection of the main fuel oil storage tank during plant operation does not impact the availability of the EDGs to perform their intended safety function. Furthermore, while the main fuel oil storage tank is out of service, the availability of onsite and offsite fuel oil sources ensures that an adequate supply of fuel oil remains available.

In addition to supplying the four EDGs, the main fuel oil storage tank also supplies the Standby Diesel Fire Pump fuel oil tank. With the main fuel oil storage tank out of service, operator actions necessary to refill this tank are similar in nature to existing operator actions. As such, this change does not adversely impact fire protection capabilities.

Therefore, the proposed amendments do not involve a significant increase in the probability or consequences of an accident previously evaluated.

2. Does the proposed change create the possibility of a new or different kind of accident from any accident previously evaluated?

Response: No.

Creation of the possibility of a new or different kind of accident requires creating one or more new accident precursors. New accident precursors may be created by modifications of plant configuration, including changes in allowable modes of operation. The proposed change does not involve a physical change to the design of the Diesel Fuel Oil system, nor does it alter the assumptions of the accident analyses. The one-time allowance to permit internal inspection of the main fuel oil storage tank during plant operation does not introduce any new failure modes.

Therefore, the proposed amendments do not create the possibility of a new or different kind of accident from any accident previously evaluated.

3. Does the proposed change involve a significant reduction in a margin of safety?

Response: No.

The proposed change alters the method of operation of the Diesel Fuel Oil system. However the availability of the EDGs to perform their intended safety function is not impacted and the assumptions of the accident analyses are not altered. Additionally, this change does not adversely impact fire protection capabilities.

Therefore, the proposed amendments do not result in a significant reduction in the margin of safety.

The NRC staff has reviewed the licensee's analysis and, based on this review, it appears that the three standards of 10 CFR 50.92(c) are satisfied. Therefore, the NRC staff proposes to determine that the amendment request involves no significant hazards consideration.

Attorney for licensee: Kathryn B. Nolan, Deputy General Counsel, 550 South Tryon Street, M/C DEC45A, Charlotte, NC 28202.

NRC Acting Branch Chief: Brian W. Tindell.

Exelon Generation Company, LLC, Docket Nos. 50-317 and 50-318, Calvert Cliffs Nuclear Power Plant, Unit Nos. 1 and 2 (CCNPP), Calvert County, Maryland

Date of amendment request: April 20, 2018. A publicly-available version is in ADAMS under Accession No. ML18113A090.

Description of amendment request: The amendments would change (TS) 5.2.2, “Unit Staff,” by deleting TS 5.2.2.g.3 related to specific requirements for shift technical advisor (STA) personnel education and training. This change is needed to remove a previously accepted means of filling the STA role that no longer applies to CCNPP.

Basis for proposed no significant hazards consideration determination: As required by 10 CFR 50.91(a), the licensee has provided its analysis of the issue of no significant hazards consideration, which is presented below:

1. Does the proposed amendment involve a significant increase in the probability or consequences of any accident previously evaluated?

Response: No.

The proposed amendment removes one of three permissible means for filling the STA position. TS 5.2.2.g defines the education and experience requirements for personnel filling the STA position during operation of either Unit in Modes 1, 2, 3, or 4. It provides three permissible means to fill the STA position. One of those means (TS 5.2.2.g.3) is unique to CCNPP and is no longer needed. The remaining requirements (TS 5.2.2.g.1 and TS 5.2.2.g.2) for filling the STA position meet the guidance provided in Generic Letter 86-04, Policy Statement on Engineering Expertise on Shift. This is an administrative change.

This change does not involve any change to the design basis of the plant or of any structure, system or component. As a result, there is no change to the probability or consequences of any previously evaluated accident.

Therefore, the operation of the facility in accordance with the proposed amendment does not involve a significant increase in the probability or consequences of an accident previously evaluated.

2. Does the proposed amendment create the possibility of a new or different kind of accident form any previously evaluated?

Response: No.

The proposed amendment removes one of three permissible means for filling the STA position. TS 5.2.2.g defines the education and experience requirements for personnel filling the STA position during operation of either Unit in Modes 1, 2, 3, or 4. It provides three permissible means to fill the STA position. One of those means (TS 5.2.2.g.3) is unique to CCNPP and is no longer needed. The remaining requirements (TS 5.2.2.g.1 and TS 5.2.2.g.2) for filling the STA position meet the guidance provided in Generic Letter 86-04, Policy Statement on Engineering Expertise on Shift. This is an administrative change.

This change does not involve any change to the design basis of the plant or of any structure, system or component. The proposed amendment does not impose any new or different requirements. The change does not alter assumptions made in the safety analyses. The proposed change is consistent with the safety analyses assumptions and current plant operating practice.

Therefore, the operation of the facility in accordance with the proposed change does not create the possibility of a new or different kind of accident from any previously evaluated.

3. Does the proposed amendment involve a significant reduction in a margin of safety?

Response: No.

The proposed amendment removes one of three permissible means for filling the STA position. TS 5.2.2.g defines the education and experience requirements for personnel filling the STA position during operation of either Unit in Modes 1, 2, 3, or 4. It provides three permissible means to fill the STA position. One of those means (TS 5.2.2.g.3) is unique to CCNPP and is no longer needed. The remaining requirements (TS 5.2.2.g.1 and TS 5.2.2.g.2) for filling the STA position meet the guidance provided in Generic Letter 86-04, Policy Statement on Engineering Expertise on Shift. This is an administrative change.

This change does not involve any change to the design basis of the plant or of any structure, system or component. As a result, there is no decrease in any margin of safety due to this proposed change.

Therefore, operation of the facility in accordance with the proposed amendment does not involve a significant reduction in a margin of safety.

The NRC staff has reviewed the licensee's analysis and, based on this review, it appears that the three standards of 10 CFR 50.92(c) are satisfied. Therefore, the NRC staff proposes to determine that the amendment request involves no significant hazards consideration.

Attorney for licensee: Tamra Domeyer, Associate General Counsel, Exelon Generation Company, LLC, 4300 Winfield Road, Warrenville, IL 60555.

NRC Branch Chief: James G. Danna.

Exelon Generation Company, LLC, Docket No. 50-220, Nine Mile Point Nuclear Station, Unit No. 1 (NMP1), Oswego County, New York

Date of amendment request: March 13, 2018. A publicly-available version is in ADAMS under Accession No. ML18072A182.

Description of amendment request: The amendment would modify NMP1, Technical Specifications Surveillance Requirement (SR) 4.2.7.d for reactor coolant system isolation valves and SR 4.2.7.1.a for reactor coolant system pressure isolation valve leakage to relocate the specific surveillance frequency to the NMP1 Inservice Testing Program.

Basis for proposed no significant hazards consideration determination: As required by 10 CFR 50.91(a), the licensee has provided its analysis of the issue of no significant hazards consideration, which is presented below:

1. Does the proposed change involve a significant increase in the probability or consequences of an accident previously evaluated?

Response: No.

Performance of lnservice Testing is not an initiator to any accident previously evaluated. As a result, the probability of occurrence of an accident is not significantly affected by the proposed change. The availability of the affected components, as well as their ability to mitigate the consequences of accidents previously evaluated, is not affected.

Therefore, the proposed change does not involve a significant increase in the probability or consequences of an accident previously evaluated.

2. Does the proposed change create the possibility of a new or different kind of accident from any accident previously evaluated?

Response: No.

The proposed change does not alter the design or configuration of the plant. The proposed change does not involve a physical alteration of the plant; no new or different kind of equipment will be installed. The proposed change does not alter the types of lnservice Testing performed. The frequency of lnservice Testing is unchanged.

Therefore, the proposed change does not create the possibility of a new or different kind of accident from any accident previously evaluated.

3. Does the proposed change involve a significant reduction in a margin of safety?

Response: No.

The proposed change eliminates [surveillance] requirements from the TS in lieu of requirements in the ASME [American Society of Mechanical Engineers] Code. Compliance with the ASME Code is required by 10 CFR 50.55a. Should the component be inoperable, the Technical Specifications provide actions to ensure that the margin of safety is protected.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Tamra Domeyer, Associate General Counsel, Exelon Generation Company, LLC, 4300 Winfield Road, Warrenville, IL 60555.

NRC Branch Chief: James G. Danna.

Exelon Generation Company, LLC, Docket No. 50-220, Nine Mile Point Nuclear Station, Unit No. 1, Oswego County, New York

Date of amendment request: February 9, 2018. A publicly-available version is in ADAMS under Accession No. ML18040A636.

Description of amendment request: The amendment would remove the Boraflex credit from the two remaining Boraflex storage racks located in the spent fuel pool. The licensee plans to install permanent cell blockers in pre-determined spent fuel pool rack cells thus eliminating reliance on Boraflex for spent fuel pool reactivity control.

Basis for proposed no significant hazards consideration determination: As required by 10 CFR 50.91(a), the licensee has provided its analysis of the issue of no significant hazards consideration, which is presented below:

1. Does the proposed change involve a significant increase in the probability or consequences of an accident previously evaluated?

Response: No.

The proposed change does not make any change to the systems, structures or components in the Nine Mile Point Unit 1 (NMP1) Spent Fuel Pool (SFP) except for the installation of cell blockers in pre-determined Boraflex rack cells. The change is necessary to ensure that, with continued Boraflex degradation over time, the effective neutron multiplication factor, keff, is less than 0.95, if the SFP is fully flooded with unborated water. The proposed change does not change the manner in which spent fuel is handled, moved or stored in the storage rack cells. The installation of the cell blockers does not impact the fuel source terms, therefore, there is no adverse radiological impact. The installation of the cell blockers does not change the decay heat and the cell blockers meet the criterion to allow for continued water flow through the storage cell; thus, there is no adverse thermal-hydraulic impact. Therefore, the proposed change does not involve a significant increase in the probability or consequences of an accident previously evaluated.

2. Does the proposed change create the possibility of a new or different kind of accident from any accident previously evaluated?

Response: No.

Onsite storage of spent fuel assemblies in the NMP1 SFP is a normal activity for which NMP1 has been designed and licensed. As part of assuring that this normal activity can be performed without endangering public health and safety, the ability to safely accommodate different possible accidents in the SFP, such as dropping a fuel bundle or misleading a fuel bundle, have been analyzed. The proposed SFP storage configuration using cell blockers does not change the methods of fuel movement or spent fuel storage. The proposed change of using cell blockers in pre-determined Boraflex rack cells allows for continued use of SFP storage rack cells with degraded Boraflex while assuring the effective neutron multiplication factor, keff, is less than 0.95.

The proposed use of cell blockers in the pre-determined Boraflex rack cells does not create a possible new or different kind of accident from any accident previously evaluated. The displacement of the SFP water by the cell blockers is small and hence has an insignificant impact on the heat transfer from fuel assemblies to the SFP water, the time-to-boil and boil-off rate in the SFP. The stresses in the storage rack under the loaded weight of fuel assemblies and the cell blockers will remain within the allowable limits and will be bounded by the rack seismic analysis. The accident condition, where a fuel assembly is dropped onto the cell blocker, will not cause loss of the cell blocker function. Therefore, the proposed change does not create the possibility of a new or different kind of accident from any accident previously evaluated.

3. Does the proposed change involve a significant reduction in a margin of safety?

Response: No.

The proposed change will maintain, per Attachment 3, the keff to be less than 0.95 and thus preserve the required safety margin of 5%. The installation of the cell blockers does not impact the fuel source terms and decay heat and hence has no adverse radiological impact. In addition, the radiological consequences of a dropped fuel bundle are unchanged because the event involving a dropped fuel bundle onto a spent fuel storage rack cell containing a cell blocker is bounded by the radiological consequences of a dropped fuel bundle onto a spent fuel storage rack cell containing a stored fuel bundle. Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Tamra Domeyer, Associate General Counsel, Exelon Generation Company, LLC, 4300 Winfield Road, Warrenville, IL 60555.

NRC Branch Chief: James G. Danna.

Florida Power and Light Company, Docket Nos. 50-250 and 50-251, Turkey Point Nuclear Generating Unit Nos. 3 and 4 (Turkey Point), Miami-Dade County, Florida

Date of amendment request: May 14, 2018. A publicly-available version is in ADAMS under Accession No. ML18134A264.

Description of amendment request: The amendments would revise the technical specifications to increase the minimum load required for the Emergency Diesel Generator (EDG) partial-load rejection surveillance requirement (SR). Additionally, the amendments would modify the EDG voltage and frequency limits for the SR and establish a recovery period for the EDG(s) to return to steady-state conditions.

Basis for proposed no significant hazards consideration determination: As required by 10 CFR 50.91(a), the licensee has provided its analysis of the issue of no significant hazards consideration, which is presented below:

1. Does the proposed amendment involve a significant increase in the probability or consequences of an accident previously evaluated?

Response: No.

The proposed changes modify an EDG surveillance test by aligning the voltage and frequency limits with the current licensing basis and the Westinghouse STS [Standard Technical Specification]. As such, the proposed changes cannot be an initiator of any previously evaluated accident, increase its likelihood or increase the likelihood of an EDG malfunction or supported equipment. The proposed changes to the voltage and frequency limits for the immediate aftermath of a partial-load rejection and the proposed recovery period will not affect the manner in which EDGs are designed or operated. The EDGs have no time-dependent failure modes as a result of the proposed changes and will continue to operate within the parameters assumed in applicable accident analyses. Hence no impact on the consequences of any previously evaluated accident will result from the proposed changes.

Therefore, facility operation in accordance with the proposed changes would not involve a significant increase in the probability or consequences of an accident previously evaluated.

2. Does the proposed amendment create the possibility of a new or different kind of accident from any accident previously evaluated?

Response: No.

The proposed changes modify an EDG surveillance test by aligning the voltage and frequency limits with the current licensing basis and the Westinghouse STS. The proposed changes do not modify the manner in which the EDGs are designed or operated and thereby cannot introduce new failure modes, impact existing plant equipment in a manner not previously evaluated or initiate a new type of malfunction or accident. The proposed changes serve to enhance EDG reliability and availability and as such, cannot adversely affect the EDGs' ability to perform as originally designed, including their capability to withstand a worst case single failure.

Therefore, the proposed change does not create the possibility of a new or different kind of accident from any previously evaluated.

3. Does the proposed amendment involve a significant reduction in a margin of safety?

Response: No.

The proposed changes modify an EDG surveillance test by aligning the voltage and frequency limits with the current licensing basis and the Westinghouse STS. The proposed changes do not modify any setpoints for which protective actions associated with accident detection or mitigation are initiated. The proposed change neither affects the design of plant equipment nor the manner in which the plant is operated. The proposed changes increase the reliability and the availability of the EDGs and as such, cannot adversely impact any Turkey Point safety limits or limiting safety settings.

Therefore, operation of the facility in accordance with the proposed change will not involve a significant reduction in a margin of safety.

The NRC staff has reviewed the licensee's analysis and, based on this review, it appears that the three standards of 10 CFR 50.92(c) are satisfied. Therefore, the NRC staff proposes to determine that the amendment request involves no significant hazards consideration.

Attorney for licensee: Debbie Hendell, Managing Attorney—Nuclear, Florida Power & Light Company, 700 Universe Blvd. MS LAW/JB, Juno Beach, Florida 33408-0420.

NRC Acting Branch Chief: Booma Venkataraman.

Florida Power and Light Company, Docket Nos. 50-250 and 50-251, Turkey Point Nuclear Generating Unit Nos. 3 and 4, Miami-Dade County, Florida

Date of amendment request: May 3, 2018. A publicly-available version is in ADAMS under Accession No. ML18127B714.

Description of amendment request: The amendments would revise the Technical Specifications by revising Safety Limit 2.1.1.b, to reflect the peak fuel centerline temperature specified in WCAP-17642-P-A, Revision 1, “Westinghouse Performance Analysis and Design Model (PAD5).” A non-proprietary version (WCAP-17642-NP-A, Revision (1) can be found in ADAMS under Accession No. ML17338A396.

Basis for proposed no significant hazards consideration determination: As required by 10 CFR 50.91(a), the licensee has provided its analysis of the issue of no significant hazards consideration, which is presented below:

1. Do the proposed amendments involve a significant increase in the probability or consequences of an accident previously evaluated?

Response: No.

There are no design changes associated with the proposed amendments. All design, material, and construction standards that were applicable prior to this amendment request will continue to be applicable. The proposed amendments will not affect accident initiators or precursors or alter the design, conditions, and configuration of the facility, or the manner in which the plant is operated and maintained, with respect to such initiators or precursors. Compliance with Safety Limit 2.1.1.b is required to confirm that fuel cladding failure does not occur as a result of fuel centerline melting. The fuel centerline melt temperature limit is established to preclude centerline melting. The proposed change to the fuel centerline melt temperature limit has been reviewed by the NRC and found to be appropriately conservative with respect to the fuel material properties in the Final Safety Evaluation for WCAP-17642-P-A, Revision 1 Accident analysis acceptance criteria will continue to be met with the proposed amendments. Hence, the proposed amendments will not affect the source term, containment isolation, or radiological release assumptions used in evaluating the radiological consequences of any accident previously evaluated. The proposed amendments will not alter any assumptions or change any mitigation actions in the radiological consequence evaluations in the Turkey Point Updated Final Safety Analysis Report (UFSAR). Consequently, the applicable radiological dose acceptance criteria will continue to be met.

Therefore, the proposed amendments do not involve a significant increase in the probability or consequences of an accident previously evaluated.

2. Do the proposed amendments create the possibility of a new or different kind of accident from any accident previously evaluated?

Response: No.

There are no proposed design changes nor are there any changes in the method by which any safety-related plant structures, systems, and components perform their specified safety functions. The proposed amendments will not affect the normal method of plant operation or change any operating parameters. No equipment performance requirements will be affected. The proposed amendments will not alter any assumptions made in the safety analyses. The proposed amendments revise Reactor Core Safety Limit 2.1.1.b; however, the change does not involve a physical modification of the plant. No new accident scenarios, transient precursors, failure mechanisms, or limiting single failures will result from this amendment. Hence, there will be no adverse effect or challenges imposed on any safety-related system as a result of these amendments.

Therefore, the proposed amendments do not create the possibility of a new or different kind of accident from any previously evaluated.

3. Do the proposed amendments involve a significant reduction in a margin of safety?

Response: No.

The revised Safety Limit 2.1.1.b has been calculated based on the NRC-approved methods which ensure that the plant operates in compliance with all regulatory criteria. There will be no effect on those plant systems necessary to effect the accomplishment of protection functions. No instrument setpoints or system response times are affected and none of the acceptance criteria for any accident analysis will be changed. Consequently, the proposed amendments will have no impact on the radiological consequences of a design basis accident.

Therefore, the proposed amendments do not involve a significant reduction in a margin of safety.

The NRC staff has reviewed the licensee's analysis and, based on this review, it appears that the three standards of 10 CFR 50.92(c) are satisfied. Therefore, the NRC staff proposes to determine that the amendment request involves no significant hazards consideration.

Attorney for licensee: Debbie Hendell, Managing Attorney—Nuclear, Florida Power & Light Company, 700 Universe Blvd. MS LAW/JB, Juno Beach, Florida 33408-0420.

NRC Acting Branch Chief: Booma Venkataraman.

NextEra Energy Seabrook, LLC, Docket No. 50-443, Seabrook Station, Unit No. 1, Rockingham County, New Hampshire

Date of amendment request: March 16, 2018. A publicly-available version is in ADAMS under Accession No. ML18079A058.

Description of amendment request: The amendment would revise the frequencies for performing the relative pressure measurement and the assessment of the control room envelope boundary required by (TS) 6.7.6.l, Control Room Envelope Habitability Program, from 18 months to 36 months.

Basis for proposed no significant hazards consideration determination: As required by 10 CFR 50.91(a), the licensee has provided its analysis of the issue of no significant hazards consideration, which is presented below:

1. Does the proposed change involve a significant increase in the probability or consequences of an accident previously evaluated?

Response: No.

The TS administrative controls associated with the proposed change to the TS are not initiators of any accidents previously evaluated, so the probability of accidents previously evaluated is unaffected by the proposed changes. The proposed change does not alter the design, function, or operation of any plant structure, system, or component (SSC). The capability of any operable TS-required SSC to perform its specified safety function is not impacted by the proposed change. As a result, the outcomes of accidents previously evaluated are unaffected. Therefore, the proposed changes do not result in a significant increase in the probability or consequences of an accident previously evaluated.

2. Does the proposed change create the possibility of a new or different kind of accident from any previously evaluated?

Response: No.

The proposed change does not challenge the integrity or performance of any safety-related systems. No plant equipment is installed or removed, and the changes do not alter the design, physical configuration, or method of operation of any plant SSC. No physical changes are made to the plant, so no new causal mechanisms are introduced. Therefore, the proposed changes to the TS do not create the possibility of a new or different kind of accident from any accident previously evaluated.

3. Does the proposed change involve a significant reduction in the margin of safety?

Response: No.

The ability of any operable SSC to perform its designated safety function is unaffected by the proposed changes. The proposed changes do not alter any safety analyses assumptions, safety limits, limiting safety system settings, or method of operating the plant. The changes do not adversely affect plant operating margins or the reliability of equipment credited in the safety analyses. With the proposed change, the control room envelope remains capable of performing its safety function. Therefore, the proposed changes do not involve a significant reduction in the margin of safety.

The NRC staff has reviewed the licensee's analysis and, based on this review, it appears that the three standards of 10 CFR 50.92(c) are satisfied. Therefore, the NRC staff proposes to determine that the amendment request involves no significant hazards consideration.

Attorney for licensee: Debbie Hendell, Managing Attorney, Florida Power & Light Company, P.O. Box 14000, Juno Beach, FL 33408-0420.

NRC Branch Chief: James G. Danna.

PSEG Nuclear LLC and Exelon Generation Company, LLC, Docket Nos. 50-272 and 50-311, Salem Nuclear Generating Station, Unit Nos. 1 and 2, Salem County, New Jersey

Date of amendment request: May 16, 2018. A publicly-available versions is in ADAMS under Accession No. ML18136A866.

Description of amendment request: The amendments would revise (TS) 3.8.2.1, “A.C. [Alternating Current] Distribution—Operating,” to increase the Vital Instrument Bus Inverters allowed outage time (AOT) from 24 hours for the A, B and C inverters to 7 days and from 72 hours for the D inverter to 7 days. The proposed extended AOT is based on application of the Salem Generating Station Probabilistic Risk Assessment (PRA) in support of a risk-informed extension, and on additional considerations and compensatory actions.

Basis for proposed no significant hazards consideration determination: As required by 10 CFR 50.91(a), the licensee has provided its analysis of the issue of no significant hazards consideration, which is presented below:

1. Does the proposed amendment involve a significant increase in the probability or consequences of an accident previously evaluated?

Response: No.

The proposed TS amendment does not affect the design of the vital A.C. inverters, the operational characteristics or function of the inverters, the interfaces between the inverters and other plant systems, or the reliability of the inverters. An inoperable vital A.C. inverter is not considered an initiator of an analyzed event. In addition, TS Actions and the associated Allowed Outage Times are not initiators of previously evaluated accidents. Extending the Allowed Outage Time for an inoperable vital A.C. inverter would not have a significant impact on the frequency of occurrence of an accident previously evaluated. The proposed amendment will not result in modifications to plant activities associated with inverter maintenance, but rather, provides operational flexibility by allowing additional time to perform inverter troubleshooting, corrective maintenance, and post-maintenance testing on-line.

The proposed extension of the Allowed Outage Time for an inoperable vital A.C. inverter will not significantly affect the capability of the inverters to perform their safety function, which is to ensure an uninterruptible supply of 115-volt A.C. electrical power to the associated power distribution subsystems. An evaluation, using PRA methods, confirmed that the increase in plant risk associated with implementation of the proposed Allowed Outage Time extension is consistent with the NRC's Safety Goal Policy Statement, as further described in RG [Regulatory Guide] 1.174 and RG 1.177. In addition, a deterministic evaluation concluded that plant defense-in-depth philosophy will be maintained with the proposed Allowed Outage Time extension.

There will be no impact on the source term or pathways assumed in accidents previously evaluated. No analysis assumptions will be changed and there will be no adverse effects on onsite or offsite doses as the result of an accident.

Therefore, the proposed change does not involve a significant increase in the probability or consequences of an accident previously evaluated.

2. Does the proposed amendment create the possibility of a new or different kind of accident from any accident previously evaluated?

Response: No.

The proposed amendment does not involve physical alteration of the Salem Generating Station. No new equipment is being introduced, and installed equipment is not being operated in a new or different manner. There is no change being made to the parameters within which Salem is operated. There are no setpoints at which protective or mitigating actions are initiated that are affected by this proposed action. The use of the alternate Class 1E power source for the vital A.C. instrument bus is consistent with the Salem plant design. The change does not alter assumptions made in the safety analysis. This proposed action will not alter the manner in which equipment operation is initiated, nor will the functional demands on credited equipment be changed. No alteration is proposed to the procedures that ensure Salem remains within analyzed limits, and no change is being made to procedures relied upon to respond to an off-normal event. As such, no new failure modes are being introduced.

Therefore, the proposed changes do not create the possibility of a new or different kind of accident from any previously evaluated.

3. Does the proposed amendment involve a significant reduction in a margin of safety?

Response: No.

Margin of safety is related to the confidence in the ability of the fission product barriers to perform their design functions during and following an accident. These barriers include the fuel cladding, the reactor coolant system, and the containment system. The proposed change, which would increase the AOT from 24/72 hours to 7 days for one inoperable inverter, does not exceed or alter a setpoint, design basis or safety limit.

Therefore, the proposed amendment does not involve a significant reduction in a margin of safety.

The NRC staff has reviewed the licensee's analysis and, based on this review, it appears that the three standards of 10 CFR 50.92(c) are satisfied. Therefore, the NRC staff proposes to determine that the amendment request involves no significant hazards consideration.

Attorney for licensee: Jeffrie J. Keenan, PSEG Nuclear LLC—N21, P.O. Box 236, Hancocks Bridge, NJ 08038.

NRC Branch Chief: James G. Danna.

Wolf Creek Nuclear Operating Corporation (WCNOC), Docket No. 50-482, Wolf Creek Generating Station (WCGS), Unit No. 1, Coffey County, Kansas

Date of amendment request: May 9, 2018. A publicly-available version is in ADAMS under Accession No. ML18135A172.

Description of amendment request: The amendment would revise the Emergency Plan for WCGS to (1) reduce the number of required Emergency Response Organization positions; (2) standardize Technical Support Center activation time to 75 minutes; (3) replace the current normal full-time work hours licensed medical practitioner position with First Aid Responders; and (4) remove reference to performing dose assessment using containment pressure indication.

Basis for proposed no significant hazards consideration determination: As required by 10 CFR 50.91(a), the licensee has provided its analysis of the issue of no significant hazards consideration, which is presented below:

1. Does the proposed change involve a significant increase in the probability or consequences of an accident previously evaluated?

Response: No.

The proposed change to the WCNOC Emergency Plan is administrative in nature. This proposed change does not alter accident analysis assumptions, add any initiators, or affect the function of plant systems or the manner in which systems are operated, maintained, modified, tested, or inspected. The proposed change does not require any plant modifications which affect the performance capability of the structures, systems, and components (SSCs) relied upon to mitigate the consequences of postulated accidents, and has no impact on the probability or consequences of an accident previously evaluated.

Therefore, the proposed changes do not involve a significant increase in the probability or consequences of an accident previously evaluated.

2. Does the proposed change create the possibility of a new or different kind of accident from any accident previously evaluated?

Response: No.

The proposed change to the WCNOC Emergency Plan is administrative in nature. This proposed change does not alter accident analysis assumptions, add any initiators, or affect the function of plant systems or the manner in which systems are operated, maintained, modified, tested, or inspected. The proposed change does not require any plant modifications which affect the performance capability of the SSCs relied upon to mitigate the consequences of postulated accidents, and does not create the possibility of a new or different kind of accident from any accident previously evaluated.

Therefore, the proposed change does not create the possibility of a new or different kind of accident from any previously evaluated.

3. Does the proposed change involve a significant reduction in a margin of safety?

Response: No.

Plant safety margins are established through limiting conditions for operation, limiting safety systems settings, and safety limits specified in the technical specifications. The proposed change to the WCNOC Emergency Plan is administrative in nature. Since the proposed change is administrative in nature, there are no changes to these established safety margins.

Therefore the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Jay E. Silberg, Esq., Pillsbury Winthrop Shaw Pittman LLP, 2300 N Street NW, Washington, DC 20037.

NRC Branch Chief: Robert J. Pascarelli.

III. Notice of Issuance of Amendments to Facility Operating Licenses and Combined Licenses

During the period since publication of the last biweekly notice, the Commission has issued the following amendments. The Commission has determined for each of these amendments that the application complies with the standards and requirements of the Atomic Energy Act of 1954, as amended (the Act), and the Commission's rules and regulations. The Commission has made appropriate findings as required by the Act and the Commission's rules and regulations in 10 CFR chapter I, which are set forth in the license amendment.

A notice of consideration of issuance of amendment to facility operating license or combined license, as applicable, proposed no significant hazards consideration determination, and opportunity for a hearing in connection with these actions, was published in the Federal Register as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated.

For further details with respect to the action see (1) the applications for amendment, (2) the amendment, and (3) the Commission's related letter, Safety Evaluation and/or Environmental Assessment as indicated. All of these items can be accessed as described in the “Obtaining Information and Submitting Comments” section of this document.

Arizona Public Service Company, et al., Docket Nos. STN 50-528, STN 50-529, and STN 50-530, Palo Verde Nuclear Generating Station, Unit Nos. 1, 2, and 3 (PVNGS), Maricopa County, Arizona

Date of amendment request: June 22, 2017.

Brief description of amendments: The amendments revised the technical specifications to eliminate TS 5.5.8, “Inservice Testing Program.” A new defined term, “INSERVICE TESTING PROGRAM,” was added to the TS definitions section. This is consistent with Technical Specifications Task Force (TSTF) Traveler TSTF-545, Revision 3, “TS Inservice Testing Program Removal & Clarify SR [Surveillance Requirement] Usage Rule Application to Section 5.5 Testing.” The amendments eliminated the PVNGS TS 5.5.8 to remove requirements duplicated in American Society of Mechanical Engineers Code for Operations and Maintenance of Nuclear Power Plants, Code Case OMN-20, “Inservice Test Frequency.”

Date of issuance: June 7, 2018.

Effective date: As of the date of issuance and shall be implemented within 120 days from the date of issuance.

Amendment Nos.: 206 (Unit 1), 206 (Unit 2), and 206 (Unit 3). A publicly-available version is in ADAMS under Accession No. ML18120A283; documents related to these amendments are listed in the Safety Evaluation enclosed with the amendments.

Renewed Facility Operating License Nos. NPF-41, NPF-51, and NPF-74: The amendments revised the Renewed Facility Operating Licenses and TSs.

Date of initial notice in Federal Register: August 15, 2017 (82 FR 38716).

The Commission's related evaluation of the amendments is contained in a Safety Evaluation dated June 7, 2018.

No significant hazards consideration comments received: No.

Entergy Nuclear Operations, Inc., Docket No. 50-255, Palisades Nuclear Plant, Van Buren County, Michigan

Date of amendment request: July 27, 2017, as supplemented by letter dated December 19, 2017.

Brief description of amendment: The amendment revised certain staffing and training requirements, reports, programs, and editorial changes in the Technical Specifications Table of Contents; Section 1.0, “Use and Application”; and Section 5.0, “Administrative Controls,” that will no longer be applicable once Palisades Nuclear Plant is permanently defueled.

Date of issuance: June 4, 2018.

Effective date: Upon the licensee's submittal of the certifications required by 10 CFR 50.82(a)(1) and shall be implemented within 60 days from the amendment effective date.

Amendment No.: 266. A publicly-available version is in ADAMS under Accession No. ML18114A410; documents related to this amendment are listed in the Safety Evaluation enclosed with the amendment.

Renewed Facility Operating License No. DPR-20: The amendment revised the Renewed Facility Operating License and Technical Specifications.

Date of initial notice in Federal Register: September 12, 2017 (82 FR 42847). The supplemental letter dated December 19, 2017, provided additional information that clarified the application, did not expand the scope of the application as originally noticed, and did not change the NRC staff's original proposed no significant hazards consideration determination as published in the Federal Register.

The Commission's related evaluation of the amendment is contained in a Safety Evaluation dated June 4, 2018.

No significant hazards consideration comments received: No.

Exelon Generation Company, LLC, Docket No. 50-410, Nine Mile Point Nuclear Station, Unit No. 2 (Nine Mile Point 2), Oswego County, New York

Date of amendment request: August 22, 2017.

Brief description of amendment: The amendment revised the Nine Mile Point 2 Technical Specifications by removing a note associated with Surveillance Requirement 3.5.1.2 that allowed low pressure coolant injection subsystems to be considered operable in MODE 3 under certain conditions.

Date of issuance: June 8, 2018.

Effective date: As of the date of issuance and shall be implemented within 60 days of issuance.

Amendment No.: 170. A publicly-available version is in ADAMS under Accession No. ML18131A291; documents related to this amendment are listed in the Safety Evaluation enclosed with the amendment.

Renewed Facility Operating License No. NPF-69: The amendment revised the Renewed Facility Operating License and Technical Specifications.

Date of initial notice in Federal Register: December 19, 2017 (82 FR 60227).

The Commission's related evaluation of the amendment is contained in a Safety Evaluation dated June 8, 2018.

No significant hazards consideration comments received: No.

Florida Power & Light Company, Docket Nos. 50-250 and 50-251, Turkey Point Nuclear Generating Unit Nos. 3 and 4, Miami-Dade County, Florida

Date of amendment request: June 28, 2017, as supplemented by letter dated February 28, 2018.

Brief description of amendments: The amendments revised the technical specifications to relocate to licensee-controlled documents; select acceptance criteria specified in TS surveillance requirements credited for satisfying the Inservice Testing (IST) Program and Inservice Inspection Program requirements; to delete the SRs for the ASME Code Class 1, 2, and 3 components; to replace references to the Surveillance Frequency Control Program with reference to the Turkey Point IST Program where appropriate; to establish a Reactor Coolant Pump Flywheel Inspection Program; and to make related editorial changes. Additionally, the amendments deleted a redundant SR for Accumulator check valve testing and added a footnote to the SR for Pressure Isolation Valve testing.

Date of issuance: June 12, 2018.

Effective date: As of the date of issuance and shall be implemented within 120 days of issuance.

Amendment Nos.: 281 and 275. A publicly-available version is in ADAMS under Accession No. ML18130A466; documents related to these amendments are listed in the Safety Evaluation enclosed with the amendments.

Renewed Facility Operating License Nos. DPR-31 and DPR-41: The amendments revised the Renewed Facility Operating Licenses and Technical Specifications.

Date of initial notice in Federal Register: August 29, 2017 (82 FR 41069). The supplemental letter dated February 28, 2018, expanded the scope of its request as originally noticed; therefore, the NRC published another notice in the Federal Register on April 10, 2018 (83 FR 15417), which replaced the original notice in its entirety.

The Commission's related evaluation of the amendments is contained in a Safety Evaluation dated June 12, 2018.

No significant hazards consideration comments received: No.

NextEra Energy Duane Arnold, LLC, Docket No. 50-331, Duane Arnold Energy Center (DAEC), Linn County, Iowa

Date of amendment request: June 9, 2017, as supplemented by letters dated November 1, 2017, February 8, 2018, and March 28, 2018.

Brief description of amendment: The amendment revised existing DAEC technical specification requirements related to “operations with a potential for draining the reactor vessel” with new requirements on reactor pressure vessel water inventory control to protect TS 2.1.1.3 Safety Limit.

Date of issuance: June 18, 2018.

Effective date: As of the date of issuance and shall be implemented within 90 days of the date of issuance.

Amendment No.: 305. A publicly-available version is in ADAMS under Accession No. ML18089A160; documents related to this amendment are listed in the Safety Evaluation enclosed with the amendment.

Renewed Facility Operating License No. DPR-49: The amendment revised the Renewed Facility Operating License and Technical Specifications.

Date of initial notice in Federal Register: January 16, 2018 (83 FR 2230). The supplemental letters dated February 8, 2018, and March 28, 2018, provided additional information that clarified the application, did not expand the scope of the application as originally noticed, and they did not change the NRC staff's original proposed no significant hazards consideration determination as published in the Federal Register.

The Commission's related evaluation of the amendment is contained in a Safety Evaluation dated June 18, 2018.

No significant hazards consideration comments received: No.

NextEra Energy, Point Beach, LLC, Docket Nos. 50-266 and 50-301, Point Beach Nuclear Plant, Unit Nos. 1 and 2, Town of Two Creeks, Manitowoc County, Wisconsin

Date of amendment request: June 23, 2017, as supplemented by letters dated August 21, 2017, and December 21, 2017.

Brief description of amendments: The amendments revised the current emergency action level (EAL) scheme to one based on the Nuclear Energy Institute (NEI) guidance in NEI 99-01, Revision 6, “Development of Emergency Action Levels for Non-Passive Reactors,” dated November 2012. Revision 6 to NEI 99-01 was endorsed by the NRC by letter dated March 28, 2013.

Date of issuance: June 13, 2018.

Effective date: As of the date of issuance and shall be implemented within 365 days of issuance to allow consideration of outage schedules and required training cycles.

Amendment Nos.: 261 and 264. A publicly-available version is in ADAMS under Accession No. ML18079A045; documents related to these amendments are listed in the Safety Evaluation enclosed with the amendments.

Renewed Facility Operating License Nos. DPR-24 and DPR-27: The amendments revised the Facility Operating License.

Date of initial notice in Federal Register: November 21, 2017 (82 FR 55408). The supplemental letter dated December 21, 2017, provided additional information that clarified the application, did not expand the scope of the application as originally noticed, and did not change the NRC staff's original proposed no significant hazards consideration determination as published in the Federal Register.

The Commission's related evaluation of the amendments is contained in a Safety Evaluation dated June 13, 2018.

No significant hazards consideration comments received: No.

Southern Nuclear Operating Company, Docket Nos. 52-025 and 52-026, Vogtle Electric Generating Plant (VEGP), Unit Nos. 3 and 4, Burke County, Georgia

Date of amendment request: October 6, 2017, as supplemented by letter dated February 28, 2018.

Description of amendments: The amendments consisted of changes to the Updated Final Safety Analysis Report (UFSAR) in the form of departures from the incorporated plant-specific Design Control Document Tier 2 information. Further, the amendments revised a Combined License (COL) License Condition which references an UFSAR Section impacted by the proposed changes. Specifically, the amendments consisted of changes to revise the methodology and acceptance criteria for the in-containment refueling water storage tank heatup preoperational test described in UFSAR Subsection 14.2.9.1.3, item h and the passive residual heat removal heat exchanger preoperational test described in UFSAR Subsection 14.2.9.1.3, item g. These changes involves material which is specifically referenced in Section 2.D.(2) of the COLs for VEGP Units 3 and 4. The amendments also revised the reference to the In-containment Refueling Water Storage Tank Heatup Test in the COL license condition, consistent with the changes to the UFSAR.

Date of issuance: April 11, 2018.

Effective date: As of the date of issuance and shall be implemented within 30 days of issuance.

Amendment Nos.: 120 (Unit 3) and 119 (Unit 4). A publicly-available version is in ADAMS under Accession No. ML18085A045; documents related to these amendments are listed in the Safety Evaluation enclosed with the amendments.

Facility Combined Licenses Nos. NPF-91 and NPF-92: The amendments revised the Facility Combined Licenses.

Date of initial notice in Federal Register: February 2, 2018 (83 FR 8509). The supplemental letter dated February 28, 2018, provided additional information that clarified the application, did not expand the scope of the application as originally noticed, and did not change the staff's original proposed no significant hazards consideration determination as published in the Federal Register.

The Commission's related evaluation of the amendments is contained in the Safety Evaluation dated April 11, 2018.

No significant hazards consideration comments received: No.

Southern Nuclear Operating Company, Docket Nos. 52-025 and 52-026, Vogtle Electric Generating Plant (VEGP), Unit Nos. 3 and 4, Burke County, Georgia

Date of amendment request: February 2, 2018.

Description of amendments: The amendments authorized the Southern Nuclear Operating Company to depart from the VEGP Units 3 and 4 plant-specific Appendix A, technical specifications as incorporated into the VEGP Unit Nos. 3 and 4 COLs, and changed to the approved AP1000 Design Control Document Tier 2 information as incorporated into the Updated Final Safety Analysis Report (UFSAR). Specifically, the changes to the COLs Appendix A, included TS 5.6.3 for the core operating limits report documentation to remove certain reactor trip instrumentation from the list of core operating limits and include analytical methods mentioned elsewhere in the TS and UFSAR and to TS 5.7.2 to correct a typographical error in a description of a radiation monitoring device that may be used in a high radiation area. The changes to the UFSAR Tier 2 Table 1.6-1, “Material Referenced,” and Section 4.3.5, “References,” updated the list of references as described in the application.

Date of issuance: May 31, 2018.

Effective date: As of the date of issuance and shall be implemented within 30 days of issuance.

Amendment Nos.: 124 (Unit 3) and 123 (Unit 4). A publicly-available version is in ADAMS under Accession No. ML18123A511; documents related to these amendments are listed in the Safety Evaluation enclosed with the amendments.

Facility Combined Licenses Nos. NPF-91 and NPF-92: The amendments revised the Facility Combined Licenses.

Date of initial notice in Federal Register: March 13, 2018 (83 FR 10911).

The Commission's related evaluation of the amendments is contained in the Safety Evaluation dated May 31, 2018.

No significant hazards consideration comments received: No.

STP Nuclear Operating Company, Docket Nos. 50-498 and 50-499, South Texas Project (STP), Units 1 and 2, Matagorda County, Texas

Date of amendment request: September 18, 2017.

Brief description of amendments: The amendments relocated the defined core plane regions where the radial peaking factor limits are not applicable, called radial peaking factor exclusion zones, from TS 4.2.2.2.f to the Core Operating Limits Reports (COLRs) for STP, Unit Nos. 1 and 2. The amendment also revised the COLR Administrative Controls TS to add exclusion zones to the list of limits found in the COLRs, and revised the description of the methodology used to determine the values for the radial peaking factor exclusion zones. In addition, the amendment corrected two administrative errors.

Date of issuance: June 7, 2018.

Effective date: As of the date of issuance and shall be implemented within 90 days from the date of issuance.

Amendment Nos.: 213 (Unit 1) and 199 (Unit 2). A publicly-available version is in ADAMS under Accession No. ML18128A342; documents related to these amendments are listed in the Safety Evaluation enclosed with the amendments.

Renewed Facility Operating License Nos. NPF-76 and NPF-80: The amendments revised the Renewed Facility Operating Licenses and Technical Specifications.

Date of initial notice in Federal Register: December 5, 2017 (82 FR 57475).

The Commission's related evaluation of the amendments is contained in a Safety Evaluation dated June 7, 2018.

No significant hazards consideration comments received: No.

United States Maritime Administration (MARAD), Docket No. 50-238, Nuclear Ship SAVANNAH (NSS), Baltimore, Maryland

Date of amendment request: March 30, 2018.

Brief description of amendment: The amendment revised the Technical Specifications to establish controls for all accesses to the Containment Vessel in support of two structural modifications.

Date of issuance: June 12, 2018.

Effective date: As of the date of issuance and shall be implemented within 60 days.

Amendment No.: 16. A publically-available version is in ADAMS under Accession No. ML18109A578.

Facility Operating License No. NS-1: The amendment revised the License.

Date of initial notice in Federal Register: May 8, 2018 (83 FR 20863).

The Commission's related evaluation of the amendment is contained in a Safety Evaluation dated June 12, 2017.

No significant hazards consideration comments received: No.

Dated at Rockville, Maryland, this 21st day of June 2018.
For the Nuclear Regulatory Commission.
Tara Inverso,
Acting Deputy Director, Division of Operating Reactor Licensing, Office of Nuclear Reactor Regulation.

[FR Doc. 2018-13758 Filed 7-2-18; 8:45 am]

BILLING CODE 7590-01-P